DEPARTMENT OF TRANSPORTATION

Surface Transportation Board

[STB Ex Parte No. 671]

Rail Capacity and Infrastructure Requirements

AGENCY: Surface Transportation Board, DOT.

ACTION: Notice of public hearing.

SUMMARY: The Surface Transportation Board will hold a public hearing beginning at 9 a.m. on Wednesday, April 11, 2007, at its new offices in Washington, DC. The purpose of the public hearing will be to examine issues related to rail traffic forecasts and infrastructure requirements. Persons wishing to speak at the hearing should notify the Board in writing.

DATES: The public hearing will take place on Wednesday, April 11, 2007. Any person wishing to speak at the hearing should file with the Board a written notice of intent to participate, and should identify the party, the proposed speaker, the time requested, and the topic(s) to be covered, as soon as possible but no later than March 21, 2007. Each speaker should also file with the Board his/her written testimony by April 4, 2007. Written submissions by interested persons who do not wish to appear at the hearing will also be due by April 4, 2007.

ADDRESSES: All notices of intent to participate and testimony may be submitted either via the Board's e-filing format or in the traditional paper format. Any person using e-filing should comply with the Board's http://www.stb.dot.gov Web site, at the “E-FILING” link. Any person submitting a filing in the traditional paper format should send an original and 10 copies of the filing to: Surface Transportation Board, Attn: STB Ex Parte No. 671, 395 E Street, SW., Washington, DC 20423-0001.

FOR FURTHER INFORMATION CONTACT: Joseph H. Dettmar, (202) 245-0395. [Assistance for the hearing impaired is available through the Federal Information Relay Service (FIRS) at: (800) 877-8339.]

SUPPLEMENTARY INFORMATION: In recent years, there has been growing recognition that rail capacity in the United States has become constrained. Those capacity constraints come at the same time as many forecasts predict that rail freight demands will continue to grow over the next twenty years. Railroads experienced a more than 50% increase in traffic from 1990 to 2003, and traffic is projected to continue to increase as the economy grows.¹ Some forecasters predict that multimodal freight tonnage in the United States will rise by nearly 70% between 1998 and 2020.² The convergence of increased demand with constrained capacity has highlighted the need to address what further infrastructure investment will be required to meet these demands. While some railroads have announced significant infrastructure investment plans, some observers have questioned whether that investment alone will be sufficient to meet the rail transport needs of a growing economy.

¹ Congressional Budget Office Report, Freight Rail Transportation: Long-Term Issues, at 4-5 (January 2006).

² Id. at 6, citing, Federal Highway Administration, Freight Analysis Framework (October 2002).

In regulating the railroad industry, the Board is called upon, among other things, to ensure the development and continuation of a sound rail transportation system with effective competition and coordination between rail carriers and other modes. Pursuant to that objective, the Board will hold a public hearing as a forum for interested persons to provide views and information about: Freight traffic forecasts; the extent of the capacity constraints and the ability of the railroads to meet the rising demand; the infrastructure investment needed to ensure that the Nation's freight rail system continues to operate in an efficient and reliable manner; possible solutions to the challenges presented by growing rail traffic and limited capacity; and the potential role of public-private partnerships and innovative financing tools in meeting these challenges. We look forward to hearing from all parties affected by these issues, including carriers, shippers, port administrators, state entities and federal agencies.

Date of Hearing. The hearing will begin at 9 a.m. on Wednesday, April 11, 2007, in the 1st floor hearing room at the Board's new headquarters at 395 E Street, SW., in Washington, DC, and will continue, with short breaks if necessary, until every person scheduled to speak has been heard.

Notice of Intent To Participate. Any person wishing to speak at the hearing should file with the Board a written notice of intent to participate, and should identify the party, the proposed speaker, the time requested, and topic(s) to be covered, as soon as possible, but no later than March 21, 2007.

Testimony. Each speaker should file with the Board his/her written testimony by April 4, 2007. Also, any interested person who wishes to submit a written statement without appearing at the April 11 hearing should file that statement by April 4, 2007.

Board Releases and Live Audio Available Via the Internet. Decisions and notices of the Board, including this notice, are available on the Board's Web site at http://www.stb.dot.gov. This hearing will be available on the Board's Web site by live audio streaming. To access the hearing, click on the “Live Audio” link under “Information Center” at the left side of the home page beginning at 9 a.m. on April 11, 2007.

This action will not significantly affect either the quality of the human environment or the conservation of energy resources.

Dated: March 6, 2007.
Vernon A. Williams,
Secretary.

4

[FR Doc. E7-4421 Filed 3-9-07; 8:45 am]

BILLING CODE 4915-01-P